OFFICE OF PERSONNEL MANAGEMENT

SES Positions That Were Career Reserved During 2004

AGENCY: Office of Personnel Management.

ACTION: Notice.

SUMMARY: As required by section 3132(b)(4) of title 5, United States Code, this gives notice of all positions in the Senior Executive Service (SES) that were career reserved during 2004.

FOR FURTHER INFORMATION CONTACT: Quasette Crowner, Center for Leadership and Executive Resources Policy (202) 606-1579.

SUPPLEMENTARY INFORMATION: Below is a list of titles of SES positions that were career reserved at any time during calendar year 2004, regardless of whether those positions were career reserved on December 31, 2004. Section 313(b)(4) of title 5, United States Code, requires that the head of each agency publish such lists by March 1 of the following year. The Office of Personnel Management is publishing a consolidated list for all agencies.

Office of Personnel Management.
Dan G. Blair,
Acting Director.

BILLING CODE 6325-39-M

[FR Doc. 05-5513 Filed 3-22-05; 8:45 am]

BILLING CODE 6325-39-C